ENVIRONMENTAL PROTECTION AGENCY

40 CFR Part 81

Approval and Promulgation of Implementation Plans and Designation of Areas for Air Quality Planning Purposes; State of New Jersey

CFR Correction

In Title 40 of the Code of Federal Regulations, Parts 81 to 85, revised as of July 1, 2004, in § 81.331, on page 274, in the table for New Jersey—Carbon Monoxide, the entry for the New York-N. New Jersey-Long Island Area is revised to read as follows:

§ 81.331 New Jersey.

* * * * *

New Jersey—Carbon Monoxide
Designated Area | Designation: Date ¹ | Designation: Type | Classification: Date ¹ | Classification: Type
* * * * * * *
New York-N. New Jersey-Long Island Area:
Bergen | October 22, 2002 | Attainment.
Essex County | ......do | Attainment.
Hudson County | ......do | Attainment.
Passaic County (part)
City of Clifton | ......do | Attainment.
City of Paterson | ......do | Attainment.
City of Passaic | ......do | Attainment.
Union County | ......do | Attainment.
* * * * * * *
¹ This date is November 15, 1990, unless otherwise noted.

* * * * *

[FR Doc. 05-55500 Filed 1-31-05; 8:45 am]

BILLING CODE 1505-01-D